ENVIRONMENTAL PROTECTION AGENCY

[ER-FRL-9058-8]

Environmental Impact Statements; Notice of Availability

Responsible Agency: Office of Federal Activities, General Information 202-564-5632 or https://www.epa.gov/nepa.

Weekly receipt of Environmental Impact Statements (EIS)

Filed October 4, 2021 10 a.m. EST Through October 8, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210151, Final, FERC, PA, Marcus Hook Electric Compression Project, Review Period Ends: 11/15/2021, Contact: Office of External Affairs 866-208-3372.

EIS No. 20210152, Draft Supplement, FHWA, IL, U.S. Route 34—Henderson County, Illinois, Comment Period Ends: 11/29/2021, Contact: Darien Siddall 217-492-4615.

EIS No. 20210153, Draft, USAF, TX, T-7A Recapitalization at Joint Base San Antonio, Texas, Comment Period Ends: 11/29/2021, Contact: Nolan Swick 210-925-3392.

EIS No. 20210154, Final, FERC, LA, Evangeline Pass Expansion Project, Review Period Ends: 11/15/2021, Contact: Office of External Affairs 866-208-3372.

Dated: October 8, 2021.
Cindy S. Barger,
Director, NEPA Compliance Division, Office of Federal Activities.

[FR Doc. 2021-22501 Filed 10-14-21; 8:45 am]

BILLING CODE 6560-50-P